DEPARTMENT OF ENERGY

Federal Energy Regulatory Commission

[Project No. 2030-030; Project No. 11832-000]

Portland General Electric Company; The Confederated Tribes of the Warm Springs Reservation of Oregon; Notice of Meeting

September 6, 2000.

At the request of Portland General Electric Company and The Confederated Tribes of the Warm Springs Reservation of Oregon, a meeting will be convened by staff of the Office of Energy Projects on September 19, 2000, at 8:30 a.m., 888 First Street NE., Washington, DC. The purpose of this meeting is to discuss procedures for filing a joint amendment to the Pelton Round Butte applications. However, other issues may be discussed as time permits.

Any person wishing to attend or needing additional information should contact Nan Allen at (202) 219-2938 or e-mail at nan.allen@ferc.fed.us.

David P. Boergers,
Secretary.

[FR Doc. 00-23292 Filed 9-11-00; 8:45 am]

BILLING CODE 6717-01-M